DEPARTMENT OF HOUSING AND URBAN DEVELOPMENT

[Docket No. FR-6570-N-01]

30-Day Notice Waiver for Continuum of Care Program (CoC Builds); Notice of Waiver

AGENCY: Office of the Deputy Secretary, HUD.

ACTION: Notice of waiver.

SUMMARY: This notice announces a waiver, granted by the Secretary, through the Deputy Secretary, of the minimum 30-day application period required under section 102(a) of the HUD Reform Act for the Continuum of Care Program (CoC Builds) notice of funding opportunity (NOFO), which was published on HUD's website on September 5, 2025 (FR-6902-N-25A).

FOR FURTHER INFORMATION CONTACT: For information regarding this notice, contact Felicia Gaither, Acting Deputy Assistant Secretary for Special Needs, Office of Community Planning and Development, Department of Housing and Urban Development, 451 7th Street SW, Washington, DC 20011; telephone number (202) 402-6009 (this is not a toll-free number); email CoCBuilds@HUD.gov. HUD welcomes and is prepared to receive calls from individuals who are deaf or hard of hearing, as well as individuals with speech and communication disabilities. To learn more about how to make an accessible telephone call, please visit https://www.fcc.gov/consumers/guides/telecommunications-relay-service-trs.

SUPPLEMENTARY INFORMATION: Section 102(a) of the HUD Reform Act (42 U.S.C. 3545(a)) sets out the requirements for notice to the public regarding assistance available from HUD. Section 102(a)(3) requires publication of selection criteria not less than 30 days before the deadline for applications or requests for assistance. On September 5, 2025, the Department published the FY2025 CoC Builds NOFO (FR-6902-N-25A), announcing the availability of $75 million in Fiscal Year 2023 CoC funds, which were appropriated in the Consolidated Appropriations Act, 2023 (Pub. L. 117-328).

The September 5, 2025 NOFO announced a funding application deadline of 3:00 p.m. EST on September 12, 2025. The period was less than the 30-day minimum application requirement under section 102(a)(3). Section 102(a)(5) of the Reform Act permits the Secretary to waive the minimum 30-day application period “if the Secretary determines that the waiver is required for appropriate response to an emergency”. The Secretary is also required to publish, in the Federal Register, the reasons for granting such a waiver.

The Secretary has granted a waiver of the 30-day minimum application requirement for the previously referenced NOFO. It was necessary for the Department to establish a short application period for this NOFO to address certain exigent and emergency circumstances. Specifically, HUD is required by statute to obligate the CoC funds before they expire on September 30, 2025. Given that several activities must occur prior to obligating this funding, such as conducting eligibility and merit reviews of applications, HUD must ensure that there is adequate time to complete all necessary actions before the statutory deadline.

Due to the change in administration, the incoming administration needed adequate time to review the prior administration's grantmaking practices to ensure that HUD's future grantmaking activity aligned with the current administration's policy priorities. The President then issued Executive Order 14321: Ending Crime and Disorder on America's Streets (E.O.) on July 24, 2025, which directed HUD to “take immediate steps to assess [its] discretionary grant programs” and determine whether to make changes in the grantees who should be prioritized based on the factors outlined in the E.O. This led to the CoC Builds NOFO, originally published in May 2025, being republished in September after being re-evaluated to ensure grants would be awarded in a manner that is consistent with the current administration's policy priorities, including the addition of terms and conditions set forth in Executive Order 14332: Improving Oversight of Federal Grantmaking, dated August 7, 2025. The issuance of Executive Order 14332 caused the publishing of the NOFO to be further delayed as the NOFO required revision and additional review at many levels to ensure that HUD's future grantmaking activity aligned with the current administration's policy priorities. September 5, 2025, was the earliest the NOFO could be published while still meeting HUD's statutory requirement to obligate the CoC funds before they expire on September 30, 2025.

While shortened, a 7-day application period is still sufficient time for applicants to prepare and submit an application. Additionally, the NOFO was streamlined to remove the requirement for narrative responses in the merit review criteria. As such, the circumstances demonstrated that an emergency existed that justified the granting of a waiver of the 30-day application period required under section 102(a) of the HUD Reform Act.

On September 14, 2025, the U.S. District Court for the District of Rhode Island issued a temporary restraining order concerning this NOFO. The Department is complying with the Court's order.

Andrew Hughes,
Deputy Secretary.

[FR Doc. 2025-19318 Filed 10-1-25; 8:45 am]

BILLING CODE 4210-67-P